DEPARTMENT OF ENERGY

Federal Energy Regulatory Commission

Combined Notice of Filings #2

Take notice that the Commission received the following exempt wholesale generator filings:

Docket Numbers: EG17-84-000.

Applicants: Midlothian Energy, LLC.

Description: Notice of Self-Certification of Exempt Wholesale Generator Status.

Filed Date: 3/28/17.

Accession Number: 20170328-5201.

Comments Due: 5 p.m. ET 4/18/17.

Docket Numbers: EG17-85-000.

Applicants: Hays Energy, LLC.

Description: Notice of Self-Certification of Exempt Wholesale Generator Status.

Filed Date: 3/28/17.

Accession Number: 20170328-5205.

Comments Due: 5 p.m. ET 4/18/17.

Docket Numbers: EG17-86-000.

Applicants: COLETO CREEK POWER, LP.

Description: Notice of Self-Certification of Exempt Wholesale Generator Status.

Filed Date: 3/28/17.

Accession Number: 20170328-5207.

Comments Due: 5 p.m. ET 4/18/17.

Take notice that the Commission received the following electric rate filings:

Docket Numbers: ER17-714-001.

Applicants: Virginia Electric and Power Company, PJM Interconnection, LLC.

Description: Compliance filing: Compliance filing per 2/28/2017 order to correct Att. H-16A eff 1/1/17 & 2/1/17 to be effective 1/1/2017.

Filed Date: 3/28/17.

Accession Number: 20170328-5126.

Comments Due: 5 p.m. ET 4/18/17.

Docket Numbers: ER17-1318-000.

Applicants: Redbed Plains Wind Farm LLC.

Description: Baseline eTariff Filing: MBR Application to be effective 5/28/2017.

Filed Date: 3/28/17.

Accession Number: 20170328-5102.

Comments Due: 5 p.m. ET 4/18/17.

Docket Numbers: ER17-1319-000.

Applicants: Southwest Power Pool, Inc.

Description: § 205(d) Rate Filing: 2646R4 Kansas Municipal Energy Agency NITSA and NOA to be effective 3/1/2017.

Filed Date: 3/28/17.

Accession Number: 20170328-5121.

Comments Due: 5 p.m. ET 4/18/17.

Docket Numbers: ER17-1320-000.

Applicants: Odyssey Solar, LLC.

Description: Baseline eTariff Filing: Baseline new to be effective 12/13/9998.

Filed Date: 3/28/17.

Accession Number: 20170328-5183.

Comments Due: 5 p.m. ET 4/18/17.

Docket Numbers: ER17-1321-000.

Applicants: Puget Sound Energy, Inc.

Description: Initial rate filing: RES Engineering and Procurement Agreement, Original Service Agreement No. 831 to be effective 3/1/2017.

Filed Date: 3/28/17.

Accession Number: 20170328-5212

Comments Due: 5 p.m. ET 4/18/17.

Docket Numbers: ER17-1322-000.

Applicants: Western Massachusetts Electric Company.

Description: § 205(d) Rate Filing: Interconnection and Operating Agreement with Essential Power MA. Amendment No. 2 to be effective 3/29/2017.

Filed Date: 3/28/17.

Accession Number: 20170328-5214.

Comments Due: 5 p.m. ET 4/18/17.

Docket Numbers: ER17-1323-000.

Applicants: Midcontinent Independent System Operator, Inc., Ameren Illinois Company, MidAmerican Energy Company.

Description: § 205(d) Rate Filing: 2017-03-28_SA 3009 ATXI-MEC TIA to be effective 3/30/2017.

Filed Date: 3/28/17.

Accession Number: 20170328-5224.

Comments Due: 5 p.m. ET 4/18/17.

Docket Numbers: ER17-1324-000.

Applicants: Playa Solar 2, LLC.

Description: Baseline eTariff Filing: Application for Initial Market-Based Rate Tariff and Granting Certain Waivers to be effective 3/29/2017.

Filed Date: 3/28/17.

Accession Number: 20170328-5242

Comments Due: 5 p.m. ET 4/18/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 28, 2017.
Kimberly D. Bose,
Secretary.

[FR Doc. 2017-06467 Filed 3-31-17; 8:45 am]

BILLING CODE 6717-01-P